DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: Malcolm Baldrige National Quality Award and Examiner Applications.

Form Number(s): None.

OMB Approval Number: 0693-0006.

Type of Review: Regular submission.

Burden Hours: 7,800.

Number of Respondents: 900 (Awards 100; Examiners 800).

Average Hours per Response: Award applications, 74 hrs; and Board of Examiners applications, 30 minutes.

Needs and Uses: Public Law 100-107, the Malcolm Baldrige Quality Improvement Act of 1987 established an annual U.S. National Quality Award. The Secretary of Commerce leads and NIST develops and manages the Award with the cooperation with the private sector. The purposes of the Award are to promote quality awareness, recognize the quality achievements of U.S. companies, and to share successful quality strategies and practices. The law explicitly states that “An organization may qualify for an award only if it permits a rigorous evaluation of the way in which its business and other operations have contributed to improvements in quality.” The failure to collect the information required of the Award and Examiner applicants would make it impossible to evaluate the applications and grant the Awards, and violate our statutory responsibilities.

Affected Public: Business or organizations and public and private for-profit and not-for-profit and education institutions may apply for the Award. Individuals with expertise in the business, education, health care, and/or non-profit fields are eligible to apply to be Members of the Board of Examiners.

Frequency: Annually.

Respondent's Obligation: Voluntary.

OMB Desk Officer: Jasmeet Seehra, (202) 395-3123.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jasmeet Seehra, OMB Desk Officer, FAX number (202) 395-5167, or Jasmeet_K._Seehra@omb.eop.gov).

Dated: March 15, 2007.
Gwellnar Banks,
Management Analyst, Office of the Chief Information Officer.

[FR Doc. E7-5095 Filed 3-20-07; 8:45 am]

BILLING CODE 3510-13-P